DEPARTMENT OF THE INTERIOR

National Park Service

[NPS-NERO-PAGR-26988; PX.PR166532I.00.1]

Paterson Great Falls National Historical Park Advisory Commission; Notice of Public Meeting

AGENCY: National Park Service, Interior.

ACTION: Notice of meeting.

SUMMARY: In accordance with the Federal Advisory Committee Act of 1972, the National Park Service (NPS) is hereby giving notice that the Paterson Great Falls National Historical Park Advisory Commission will meet as indicated below.

DATES: Thursday, January 17, 2019, 2 p.m. to 5 p.m. (Eastern); (snow date: January 24, 2019, 2 p.m. to 5 p.m.), and Tuesday, March 19, 2019, 5 p.m. to 7 p.m. (Eastern).

ADDRESSES: Both meetings will be held at the Rogers Meeting Center, 32 Spruce Street, Paterson, NJ 07501.

FOR FURTHER INFORMATION CONTACT: Darren Boch, Superintendent and Designated Federal Officer, Paterson Great Falls National Historical Park, 72 McBride Avenue, Paterson, NJ 07501, telephone (973) 523-2630, or email darren_boch@nps.gov.

SUPPLEMENTARY INFORMATION: The Commission is authorized by the Omnibus Public Land Management Act, (16 U.S.C. 410lll), “to advise the Secretary in the development and implementation of the management plan.” Final agendas for these meetings will be provided on the Commission website at https://www.nps.gov/pagr/parkmgmt/federal-advisory-commission.htm.

Purpose of the Meeting: Topics to be discussed during the upcoming meetings include: Status of the Paterson Great Falls National Historical Park General Management Plan; review of the schematic design for the new park visitor experience center; review of design alternatives for new “quarry lawn” park; overview of the Commission's work since its inception, and ways to stay involved in park planning after the Commission ends on March 30, 2019.

The meetings will be open to the public and time will be reserved during each meeting for public comment. Oral comments will be summarized for the record. If individuals wish to have their comments recorded verbatim, they must submit them in writing. Written comments and requests for agenda items may be sent to: Federal Advisory Commission, Paterson Great Falls National Historical Park, 72 McBride Avenue, Paterson, NJ 07501.

Public Disclosure of Comments: Before including your address, phone number, email address, or other personal identifying information in your written comments, you should be aware that your entire comment—including your personal identifying information—may be made publicly available at any time. While you can ask us in your comment to withhold your personal identifying information from public review, we cannot guarantee that we will be able to do so. All comments will be made part of the public record and will be electronically distributed to all Commission members.

Authority: 5 U.S.C. Appendix 2; 16 U.S.C. 410lll.

Alma Ripps,
Chief, Office of Policy.

[FR Doc. 2018-28275 Filed 12-27-18; 8:45 am]

BILLING CODE 4312-52-P